DEPARTMENT OF THE INTERIOR

Fish and Wildlife Service

Endangered and Threatened Species Permit Applications

AGENCY: Fish and Wildlife Service, Interior.

ACTION: Notice of availability of permit applications; request for comments.

SUMMARY: The following applicant has applied for a permit to conduct certain activities with endangered species.

DATES: We must receive any written comments on or before September 4, 2007.

ADDRESSES: Regional Director, Attn: Peter Fasbender, U.S. Fish and Wildlife Service, Ecological Services, 1 Federal Drive, Fort Snelling, MN 55111-4056; electronic mail, permitsR3ES@fws.gov.

FOR FURTHER INFORMATION CONTACT: Mr. Peter Fasbender, (612) 713-5343.

SUPPLEMENTARY INFORMATION:

Endangered Species

The Endangered Species Act of 1973, as amended (16 U.S.C. 1531 et seq.) (Act), with some exceptions, prohibits activities affecting endangered species unless authorized by a permit from the Service. Before issuing a permit, we invite public comment on it. Accordingly, we invite public comment on the following applicant's permit application for certain activities with endangered species authorized by section 10(a)(1)(A) of the Act and the regulations governing the taking of endangered species (50 CFR 17). Submit your written data, comments, or requests for copies of the complete applications to the address shown in ADDRESSES.

Permit Number TE023664-15

Applicant: Environmental Solutions and Innovations, Inc., Cincinnati, OH.

The applicant requests a permit amendment to take listed mussels throughout Indiana, Illinois, Kentucky, Michigan, New York, Ohio, Pennsylvania, and West Virginia. The scientific research is aimed at enhancement of survival of the species in the wild.

Permit Number TE126861-0

Applicant: Bat Conservation and Management, Inc., Carlisle, PA.

The applicant requests a permit amendment to take the Indiana bat (Myotis sodalis) throughout Michigan and Missouri. The scientific research is aimed at enhancement of survival of the species in the wild.

Permit Number TE128263-1

Applicant: Ecological Specialties, LLC., Symsonia, KY.

The applicant requests a permit amendment to take Indiana bat throughout Iowa, Okalahoma, Georgia, North Carolina, South Carolina, Wisconsin, Vermont, Florida, Michigan, Mississippi, Maryland, New Jersey, Connecticut, and Massachusetts. The scientific research is aimed at enhancement of survival of the species in the wild.

Permit Number TE160180

Applicant: Amy Halsall, Woodridge, IL.

The applicant requests a permit to take the Indiana bat (Myotis sodalis) throughout Illinois and Indiana. The scientific research is aimed at enhancement of survival of the species in the wild.

Permit Number TE160235

Applicant: The Ohio Department of Transportation, Columbus, OH.

The applicant requests a permit to take the Indiana bat (Myotis sodalis) throughout Ohio. The scientific research is aimed at enhancement of survival of the species in the wild.

Public Comments

We solicit public review and comment on this permit application. Please refer to the respective permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the activities proposed by this permit are categorically excluded from the requirement to prepare an environmental assessment or environmental impact statement.

Dated: July 12, 2007.
TJ Miller,
Chief, Endangered Species, Ecological Services, Region 3, Fort Snelling, Minnesota.

[FR Doc. E7-15015 Filed 8-1-07; 8:45 am]

BILLING CODE 4310-55-P